DEPARTMENT OF JUSTICE

Office of Justice Programs

[OMB Number 1121-NEW]

Agency Information Collection Activities; Proposed eCollection eComments Requested; New Collection

AGENCY: Bureau of Justice Assistance, Office of Justice Programs, Department of Justice.

ACTION: 30-Day notice.

SUMMARY: The Department of Justice, Bureau of Justice Assistance, is submitting the following information collection request to the Office of Management and Budget (OMB) for review and approval in accordance with the Paperwork Reduction Act of 1995.

DATES: The Department of Justice encourages public comment and will accept input until July 17, 2019.

FOR FURTHER INFORMATION CONTACT: If you have additional comments especially on the estimated public burden or associated response time, suggestions, or need a copy of the proposed information collection instrument with instructions or additional information, please contact Gregory Torain, Policy Advisor, Office of Justice Programs, Bureau of Justice Assistance, 810 Seventh Street NW, Washington, DC 20531, Gregory.Torain@usdoj.gov, 202-305-4485. Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the Bureau of Justice Assistance, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: New collection.

2. The Title of the Form/Collection: Annual Treatment Court Survey Series.

3. The agency form number, if any, and the applicable component of the Department sponsoring the collection: The applicable component within the Department of Justice is the Bureau of Justice Assistance.

4. Affected public who will be asked or required to respond, as well as a brief abstract: The Local ATCS (N=4,172 courts), Tribal ATCS (N=117 courts), and State Coordinator (N=54 state/territory court coordinators) address the structure (e.g., funding, personnel, partnerships), operation (e.g., services offered, eligibility, decision making), and successes and challenges (e.g., adherence to or deviance from best practices; racial, ethnic, and gender disparity or equity). The purpose of the ATCS is to develop a current portrait of treatment courts including needs and emerging trends.

5. An estimate of the total number of respondents and the amount of time estimated for an average respondent to respond: Overall, the ATCS Series uses three national population frames, totaling 4,343 courts and offices for court administration. Data collection uses these full population frames; samples from these population frames are not created for collection purposes. The national population frame for the Local ATCS contains each of the treatment courts across the country (N=4,172) with one respondent from each court, and the tribal courts across the country constitute the population frame for the Tribal ATCS (N=117) with one respondent from each court. All state/territory court coordinators (N=54) comprise the population frame for the State Coordinator ATCS. Estimated amounts of time to complete the surveys in the ATCS Series are 20 minutes for the State Coordinator ATCS, 35 minutes for the Local ATCs, and 35 for the Tribal ATCS.

6. An estimate of the total public burden (in hours) associated with the collection: Using the maximum response rate of 100%, the total annual hours for the ATCS Series is approximately 2,502 hours across the 4,343 courts in the population frames. Specifically, total completion time of the State Coordinator ATCS is an estimated 18 hours (20 minutes for each of the 54 potential respondents); the Local ATCS's total completion time is estimated at 2,433.67 hours (35 minutes for each of the 4,172 potential courts). The total time to complete the Tribal ATCS across the tribal population frame is 68.25 hours (35 minutes for each of the 117 tribal courts).

If additional information is required contact: Melody Braswell, Department Clearance Officer, United States Department of Justice, Justice Management Division, Policy and Planning Staff, Two Constitution Square, 145 N Street NE, 3E.405A, Washington, DC 20530.

Dated: June 12, 2019.
Melody Braswell,
Department Clearance Officer for PRA, U.S. Department of Justice.

[FR Doc. 2019-12684 Filed 6-14-19; 8:45 am]

BILLING CODE 4410-18-P